DEPARTMENT OF AGRICULTURE

Agricultural Marketing Service

[Docket No. AMS-LS-07-0131; LS-07-16]

United States Standards for Livestock and Meat Marketing Claims, Naturally Raised Claim for Livestock and the Meat and Meat Products Derived From Such Livestock

AGENCY: Agricultural Marketing Service, USDA.

ACTION: Notice and Request for Comments.

SUMMARY: The Agricultural Marketing Service (AMS) is seeking comments on a proposed voluntary standard for a naturally raised marketing claim. A number of livestock producers make claims associated with production practices in order to distinguish their products in the marketplace. There are a growing number of entities that wish to capture value added opportunities via alternative production methods to meet the demands of consumers seeking meat and meat products from naturally raised livestock. The livestock and meat supply chain along with consumers could benefit from a uniform standard for the marketing of this type of product. The standard for a naturally raised marketing claim, if adopted, will be part of the voluntary U.S. Standards for Livestock and Meat Marketing Claims. If this voluntary standard is established, livestock producers participating in this program would have their naturally raised claim verified through the Department of Agriculture (USDA). Verification of any claim would be accomplished through an audit of the production process in accordance with procedures that are contained in Part 62 of Title 7 of the Code of Federal Regulations (7 CFR part 62). Meat and meat products sold from approved programs can carry a claim verified by USDA.

DATES: Comments must be received on or before January 28, 2008 to be assured of consideration.

ADDRESSES: Interested persons are invited to submit written comments concerning this proposal. Comments should be submitted through the Web site at http://www.regulations.gov. Send written comments to: Naturally Raised Marketing Claim, Room 2607-S, AMS, USDA, 1400 Independence Avenue, SW., Washington, DC 20250-0254, or by facsimile to (202) 720-1112. All comments should reference the docket number. Comments received will be posted on the Web site at http://www.regulations.gov and will be made available for public inspection at the above physical address during regular business hours.

FOR FURTHER INFORMATION CONTACT: Martin E. O'Connor, Chief, Standards, Analysis, and Technology Branch, Livestock and Seed Program, AMS, USDA, Room 2607-S, 1400 Independence Avenue, SW., Washington, DC 20250-0254; facsimile: (202) 720-1112; telephone: (202) 720-4486; or e-mail: Martin.OConnor@usda.gov. Additional information can also be found by accessing the Web site at http://www.ams.usda.gov/lsg/stand/naturalclaim.htm.

SUPPLEMENTARY INFORMATION: Section 203(c) of the Agricultural Marketing Act of 1946, as amended (7 U.S.C. 1622), directs and authorizes the Secretary of Agriculture “to develop and improve standards of quality, condition, quantity, grade, and packaging, and recommend and demonstrate such standards in order to encourage uniformity and consistency in commercial practices.” USDA is committed to carrying out this authority in a manner that facilitates the marketing of agricultural products. One way of achieving this objective is through the development and maintenance of voluntary standards by AMS.

AMS is seeking comments on a proposed voluntary U.S. Standard for Livestock and Meat Marketing Claims, Naturally Raised Claim for Livestock and the Meat and Meat Products Derived from such Livestock, in accordance with procedures that are contained in Part 36 of Title 7 of the Code of Federal Regulations (7 CFR part 36).

Paperwork Reduction Act

In accordance with the Paperwork Reduction Act of 1995 (PRA; 44 U.S.C. 3501, et seq.), the information collection and recordkeeping requirements for the services associated with a proposed naturally raised marketing claim is approved under Office of Management and Budget Control No. 0581-0124.

Background

Individuals and companies often highlight production and marketing practices in advertisements and promotions to distinguish their products in the marketplace. Since the late 1970s, livestock and meat producers (individuals and companies) have requested the voluntary services of AMS to verify or certify specific practices to increase the value of their products. The Livestock and Seed (LS) Program of AMS has provided certification through direct product examination for a number of production claims related to livestock and carcass characteristics. The validity of such claims is enhanced since the product is labeled as “USDA Certified.” The LS Program also offers verification services through Quality System Verification Programs (QSVP; http://www.ams.usda.gov/lsg/arc/audit.htm) to substantiate claims that cannot be determined by direct examination of livestock, their carcasses, component parts, or the finished product. The QSVP provides suppliers of agricultural products or services the opportunity to distinguish specific activities involved in the production and processing of their agricultural products and to assure customers of their ability to provide consistent quality products or services. This is accomplished by documenting the quality management system and having the manufacturing or service delivery processes verified through independent, third-party audits. One specific QSVP is the USDA Process Verified Program, which allows suppliers to make marketing claims—such as feeding practices or other raising and processing claims—and label and market their products as “USDA Process Verified.”

As multiple marketers of specialized claims have begun to seek USDA certification or verification for the same or similar production practices, AMS has determined it would be beneficial to establish standards for common production and marketing claims that would collectively be a part of the voluntary U.S. Standards for Livestock and Meat Marketing Claims, which may be used in conjunction with a certified or verified program recognized by AMS. The livestock and meat marketing claim standards are instrumental in facilitating communication, establishing a common trade language, and enhancing understanding among producers, processors, and consumers. Past experience indicates that standards sort a highly diverse population into more homogeneous groups, and when standards are uniformly applied, they provide a valuable marketing tool. AMS develops and proposes standards for marketing and production claims based on experience with USDA Certified Programs and USDA QSVP, research into standard practices and procedures, and requests from the livestock and meat industries.

Naturally raised is an animal production method known in the industry. AMS is proposing that animals that have been naturally raised have been raised without growth promotants and antibiotics and have never been fed mammalian or avian by-products. Accordingly, AMS is seeking comments on a proposed voluntary naturally raised marketing claim standard. AMS has obtained input from a number of individual experts in government, industry, and academia while drafting the proposed standard and has conducted public listening sessions.

If adopted, product labels that include the voluntary naturally raised marketing claim must be submitted to the USDA's Food Safety and Inspection Service (FSIS), Labeling Program and Delivery Division (LPDD), for evaluation prior to use. FSIS, LPDD, under the authority of the Federal Meat Inspection Act (FMIA; 21 U.S.C. 601, 607) and the Poultry Products Inspection Act (PPIA; 21 U.S.C. 451, 457), regulates domestic and imported meat, poultry, and egg product labeling, standards, and ingredients. AMS has worked closely with FSIS, LPDD to develop and propose the voluntary naturally raised marketing claim standard. All products using the naturally raised marketing claim standard would have to be accompanied by a brief statement explaining the claim and attributes. The proposed standard for a naturally raised marketing claim, if adopted, would be part of the voluntary U.S. Standards for Livestock and Meat Marketing Claims which may be used in conjunction with a USDA QSVP, and naturally raised marketing claims may be verified, as provided in 7 CFR Part 62. However, since this would be a voluntary marketing claim, if adopted, FSIS would not establish a new provision limiting the use of the term naturally raised to labels in which participants meet this standard with a USDA QSVP. Any specific labeling issues or questions not related to AMS services would be directed to the FSIS, LPDD.

According to FreshLook Marketing Group retail data, the demand for natural and organic products has surged to double-digit growth in recent years (for more information on the National Organic Program visit http://www.ams.usda.gov/nop/indexIE.htm). To meet the growing consumer demand, U.S. meat and poultry companies have developed and marketed “natural” meat and meat products. An AMS naturally raised marketing claim standard, if adopted, would remain independent of the FSIS use of the term “natural” and would separate claims about livestock production practices on product labeling.

The majority of claims currently citing naturally raised animal production methods are defined by the individual company selling the product. Depending upon the branded program making the claims, the production activities and associated requirements can vary since there is currently no standard to specify which attributes must be addressed and to what level, other than to be truthful and not misleading. This has led to confusion in the industry and the marketplace as to what requirements must be met in order to have a uniform, explicit claim that can be easily understood. This confusion has caused AMS to develop and propose a standard with explicit attributes that could easily be understood by the public as the basis for a naturally raised marketing claim as it relates to live animal production practices. AMS seeks comment from the public concerning its development and requirements.

Proposed Standard

To develop and propose a marketing claim standard for naturally raised, AMS conducted three listening sessions in December 2006 and January 2007 in Washington, DC, Denver, CO, and Seattle, WA, to seek oral and written comments regarding the use of a naturally raised marketing claim standard. Public input and comments related to a naturally raised marketing claim are posted on the Web site at http://www.ams.usda.gov/lsg/stand/naturalclaim.htm. AMS evaluated the public input and comments and is seeking further comments on a proposed naturally raised marketing claim standard.

AMS also reviewed consumer research along with the comments and identified, based upon this information, that production practices such as the prohibited use of antibiotics, growth promotants, and certain animal by-products are the main attributes consumers want for meat and meat products derived from livestock that are naturally raised. These are the attributes that AMS' proposed naturally raised standard contains. Again, the naturally raised labeling claim proposed in this notice remains independent of the FSIS policy on the use of the term “natural” on product labeling and will only pertain to live animal production practices.

Accordingly, AMS seeks comments on the following proposed voluntary U.S. Standard for Livestock and Meat Marketing Claims, in this notice.

Proposed U.S. Standards for Livestock and Meat Marketing Claims, Naturally Raised Claim for Livestock and the Meat and Meat Products Derived From Such Livestock

Background: This proposed claim applies to livestock used for meat and meat products that were raised entirely without growth promotants, antibiotics, and mammalian or avian by-products.

The administration of growth hormones, including natural hormones, synthetic hormones, estrus suppressants, beta agonists, or other synthetic growth promotants is prohibited from birth to slaughter. Collectively, they are referred to in the naturally raised marketing claim standard as growth promotants.

No antibiotics can be administered, whether through feed or water, or by injection, from birth to slaughter. This includes low-level (sub-therapeutic) or therapeutic level doses, sulfonamides, ionophores, coccidiostats, or any other synthetic antimicrobial. If an animal is in need of medical attention, proper treatment should, of course, be administered in an attempt to improve the health of the animal. In the case where antibiotics or the stated prohibited substances are administered, the treated animal must be identified and excluded from the program. Health products that can be used for disease prevention in a naturally raised program are vaccines, parasite control products, antibody preparations, and bloat prevention and treatment products (e.g., feed grade microbials and buffers that help facilitate the animals digestive process).

The feeding of mammalian or avian by-products is prohibited. Livestock cannot be fed rations that include components that are mammalian or avian derived.

Vitamin and mineral supplementation is permissible.

Verification of the proposed claim will be accomplished through an audit of the production process. The producer must be able to verify for AMS that the naturally raised marketing claim standard requirements are being met through a detailed documented quality management system.

Claim and Standard

Naturally Raised—Livestock used for the production of meat and meat products have been raised entirely without growth promotants, antibiotics, and have never been fed mammalian or avian by-products. This information shall be contained on any label claim that an animal has been naturally raised.

Authority: 7 U.S.C. 1621-1627.

Dated: November 21, 2007.
Lloyd C. Day,
Administrator, Agricultural Marketing Service.

[FR Doc. E7-23103 Filed 11-27-07; 8:45 am]

BILLING CODE 3410-02-P